DEPARTMENT OF COMMERCE

National Oceanic and Atmospheric Administration

[RTID 0648-XC521]

Western Pacific Fishery Management Council; Public Meetings

AGENCY: National Marine Fisheries Service (NMFS), National Oceanic and Atmospheric Administration (NOAA), Commerce.

ACTION: Notice of public meeting.

SUMMARY: The Western Pacific Fishery Management Council (Council) will hold its Hawaii Archipelago Fishery Ecosystem Plan (FEP) Advisory Panel (AP) to discuss and make recommendations on fishery management issues in the Western Pacific Region.

DATES: The meeting will be held on Tuesday, November 22, 2022, from 9 a.m. to 1 p.m. (Hawaii Standard Time). For agenda, see SUPPLEMENTARY INFORMATION.

ADDRESSES: The meeting will be held by web conference via Webex. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: Public Comment periods will be provided in the agendas. The order in which agenda items are addressed may change. The meetings will run as late as necessary to complete scheduled business.

Schedule and Agenda for the Hawaii Archipelago AP meeting

Tuesday, November 22, 2022, 9 a.m.-1 p.m. (Hawaii Standard Time)

1. Welcome and Introductions

2. Review of Last AP Meeting and Recommendations

3. Council Issues

A. Review of Paper Interring Spillover Benefits of the Papahanaumokuakea Marine National Monument

B. Proposed Northwest Hawaiian Islands Fishing Regulations

C. Catch Limit for the North Pacific Striped Marlin

D. Final Supplemental Biological Opinion (BiOp) and Status of the Full BiOp for the Hawaii Deep-set Longline Fishery

4. Public Comment

5. Discussion and Recommendations

6. Other Business

Special Accommodations

The meeting is accessible to people with disabilities. Requests for sign language interpretation or other auxiliary aids should be directed to Kitty M. Simonds, (808) 522-8220 (voice) or (808) 522-8226 (fax), at least 5 days prior to the meeting date.

Authority: 16 U.S.C. 1801 et seq.

Dated: November 4, 2022.
Rey Israel Marquez,
Acting Deputy Director, Office of Sustainable Fisheries, National Marine Fisheries Service.

[FR Doc. 2022-24459 Filed 11-8-22; 8:45 am]

BILLING CODE 3510-22-P